INTERNATIONAL TRADE COMMISSION

[Investigation No. 337-TA-432]

Certain Semiconductor Chips With Minimized Chip Package Size and Products Containing Same; Notice of a Commission Determination Not To Review an Initial Determination Extending the Target Date for Completion of the Investigation

AGENCY: U.S. International Trade Commission.

ACTION: Notice.

SUMMARY: Notice is hereby given that the U.S. International Trade Commission has determined not to review an initial determination (“ID”) of the presiding administrative law judge (“ALJ”) extending the target date for completion of the above-captioned investigation to January 25, 2002.

FOR FURTHER INFORMATION CONTACT: Michael Diehl, Esq., Office of the General Counsel, U.S. International Trade Commission, telephone (202) 205-3095. Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000. Hearing-impaired persons are advised that information on this matter can be obtained by contacting the Commission's TDD terminal on (202) 205-1810. General information concerning the Commission may also be obtained by accessing its Internet server (http://www.usitc.gov). The public record of this investigation may be viewed on the Commission's electronic docket (EDIS-ON-LINE) at http://dockets.usitc.gov/eol/public.

SUPPLEMENTARY INFORMATION: On April 27, 2000, the Commission instituted this investigation based on a complaint by Tessera, Inc. (“Tessera”), alleging a violation of section 337 of the Tariff Act of 1930 in the importation and sale of certain semiconductor chips with minimized package size, and products containing same, by reason of infringement of at least claims 6 and 22 of U.S. Letters Patent 5,679,977 and claims 1, 3, and 11 of U.S. Letters Patent 5,852,326, both owned by Tessera. 65 FR 25758 (May 3, 2000). Named as respondents were Texas Instruments Incorporated (“TI”), Sharp Corporation, and Sharp Electronics Corporation. On March 2, 2001, the Commission determined not to review an ID by the ALJ in which he granted Tessera's motion to withdraw all allegations as to TI, and to terminate the investigation as to TI. On June 2, 2000, the ALJ issued Order No. 4, setting the target date for completion of the investigation as May 14, 2001. On August 23, 2000, the ALJ issued Order No. 6, modifying the target date to August 14, 2001.

This action is taken under the authority of section 337 of the Tariff Act of 1930, as amended, 19 U.S.C. 1337, and Commission rule 210.42, 19 CFR 210.42.

By order of the Commission.
Issued: May 22, 2001.
Donna R. Koehnke,
Secretary.

[FR Doc. 01-13372 Filed 5-25-01; 8:45 am]

BILLING CODE 7020-02-P